NATIONAL ARCHIVES AND RECORDS ADMINISTRATION

Founding Fathers Advisory Committee

AGENCY: National Archives and Records Administration.

ACTION: Notice of Establishment of a NARA Advisory Committee, Pursuant to the Federal Advisory Committee Act, 5 U.S.C. Appendix 2.

SUMMARY: The Archivist of the United States has determined that the establishment of the Founding Fathers Advisory Committee is necessary and is in the public interest in connection with the Presidential Historical Records Preservation Act of 2008. This committee will comply with the provisions of the Federal Advisory Committee Act, as amended (5 U.S.C. Appendix 2.)

FOR FURTHER INFORMATION CONTACT: Mary Ann Hadyka, 301-837-1782.

SUPPLEMENTARY INFORMATION: This Committee shall advise the Archivist of the United States on the progress of the Founding Fathers editorial projects funded by the National Historical Publications and Records Commission, a part of the National Archives. Its purview includes, but is not limited to, advising and making recommendations to the Archivist on issues related to the goals and completion of the projects, their funding sources, and their performance and productivity.

Dated: February 17, 2010.
Mary Ann Hadyka,
Committee Management Officer.

[FR Doc. 2010-3488 Filed 2-19-10; 8:45 am]

BILLING CODE 7515-01-P